DEPARTMENT OF COMMERCE

International Trade Administration

[A-520-804]

Certain Steel Nails From the United Arab Emirates: Final Results of the Expedited First Sunset Review of the Antidumping Duty Order

AGENCY: Enforcement and Compliance, International Trade Administration, Department of Commerce.

SUMMARY: As a result of this sunset review, the Department of Commerce (the Department) finds that revocation of the antidumping duty order on certain steel nails from the United Arab Emirates (UAE) would be likely to lead to continuation or recurrence of dumping at the levels indicated in the “Final Results of Review” section of this notice.

DATES: Applicable August 7, 2017.

FOR FURTHER INFORMATION CONTACT: Annathea Cook, AD/CVD Operations, Enforcement and Compliance, International Trade Administration, U.S. Department of Commerce, 1401 Constitution Avenue NW., Washington, DC 20230; telephone: (202) 482-0250.

SUPPLEMENTARY INFORMATION: On April 27, 2011, the Department of Commerce (Department) published the notice of the AD Order on nails from the UAE.¹ On April 3, 2017, the Department published the notice of initiation of the first sunset review of the AD Order, pursuant to section 751(c) of the Tariff Act of 1930, as amended (Act).² On April 4, 2017, the Department received a notice of intent to participate from one domestic interested party: Mid Continent Steel & Wire, Inc. (Mid Continent) within the deadline specified in 19 CFR 351.218(d)(1)(i).³ Mid Continent claimed interested party status under section 771(9)(C) of the Act, as a manufacturer in the United States of a domestic like product. On May 4, 2017, the Department received a complete and adequate substantive response from Mid Continent within the 30-day deadline specified in 19 CFR 351.218(d)(3)(i).⁴ The Department received no substantive responses from respondent interested parties. As a result, pursuant to section 751(c)(3)(B) of the Act and 19 CFR 351.218(e)(1)(ii)(C)(2), the Department conducted an expedited sunset review of the AD Order.

¹ See Certain Steel Nails from the United Arab Emirates: Amended Final Determination of Sales at Less Than Fair Value and Antidumping Duty Order, 77 FR 27421 (May 10, 2012) (AD Order).

² See Initiation of Five-Year (Sunset) Reviews, 82 FR 16159 (April 3, 2017) (Notice of Initiation).

³ See Mid Continent's submission “Re: Steel Nails from the United Arab Emirates: Entry of Appearance, Notice of Intent to Participate in Review, and APO Application” (April 4 2017).

⁴ See Mid Continent's submission “Re: Certain Steel Nails from the United Arab Emirates: Substantive Response to Notice of Initiation of Sunset review” (May 3, 2017).

Scope of the Order

The merchandise covered by this order includes certain steel nails having a shaft length up to 12 inches. These imports are currently classified under subheadings 7317.00.55, 7317.00.65, and 7317.00.75 of the Harmonized Tariff Schedule of the United States (HTSUS). The HTSUS subheading is provided for convenience and customs purposes. The written product description remains dispositive.⁵

⁵ For a full description of the scope of the AD Order, see Memorandum to Ronald K. Lorentzen, Acting Assistant Secretary for Enforcement and Compliance, from Gary Taverman, Assistant Secretary for Enforcement and Compliance for Antidumping and Countervailing Duty Operations, “First Expedited Sunset Review of the Antidumping Duty Order on Certain Steel Nails from the United Arab Emirates: Issues and Decision Memorandum for the Final Results,” dated concurrently with, and adopted by, this notice (Issues and Decision Memorandum).

Analysis of Comments Received

A complete discussion of all issues raised in this sunset review, including the likelihood of continuation or recurrence of dumping in the event of revocation of the AD Order and the magnitude of the margins likely to prevail if the order were revoked, is provided in the Issues and Decision Memorandum, which is hereby adopted by this notice.⁶ The Issues and Decision Memorandum is a public document and is on file electronically via Enforcement and Compliance's Antidumping and Countervailing Duty Centralized Electronic Services System (ACCESS). ACCESS is available to registered users at http://access.trade.gov and to all parties in the Central Records Unit, room B0824 of the main Department of Commerce building. In addition, a complete version of the Issues and Decision Memorandum can be accessed on the Internet at http://enforcement.trade.gov/frn/. The signed Issues and Decision Memorandum and the electronic version of the Issues and Decision Memorandum are identical in content.

⁶ See Issues and Decision Memorandum.

Final Results of Sunset Review

Pursuant to section 751(c)(1) and 752(c)(1) and (3) of the Act, the Department determines that revocation of the AD Order would be likely to lead to continuation or recurrence of dumping, and that the magnitude of the dumping margins likely to prevail would be weighted-average dumping margins up to 184.41 percent.

Notification to Interested Parties

This notice serves as the only reminder to parties subject to administrative protective order (APO) of their responsibility concerning the return or destruction of proprietary information disclosed under APO in accordance with 19 CFR 351.305. Timely notification of the return or destruction of APO materials, or conversion to judicial protective order, is hereby requested. Failure to comply with the regulations and terms of an APO is a violation which is subject to sanction.

We are issuing and publishing these results and notice in accordance with sections 751(c), 752(c), and 777(i)(1) of the Act, 19 CFR 351.218, and 19 CFR 351.221(c)(5)(ii).

Dated: July 28, 2017.
Gary Taverman,
Deputy Assistant Secretary for Antidumping and Countervailing Duty Operations, performing the non-exclusive functions and duties of the Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margins Likely to Prevail

VII. Final Results of Review

VIII. Recommendation

[FR Doc. 2017-16500 Filed 8-4-17; 8:45 am]

BILLING CODE 3510-DS-P